DEPARTMENT OF JUSTICE

Notice of Lodging of Proposed Consent Decree Modification Under the Clean Water Act

On October 10, 2018, the Department of Justice lodged a proposed modification of a Consent Decree with the United States District Court for the Northern District of Indiana in United States and the State of Indiana v. City of Fort Wayne, Civil Action No. 2:07-cv-00445-PPS-APR.

The Consent Decree, which was entered by the Court on April 1, 2008, settled claims brought by the United States and the State of Indiana for violations of the Clean Water Act, 33 U.S.C. 1251 et seq., in connection with Fort Wayne's operation of its municipal wastewater and sewer system. The Consent Decree requires Fort Wayne to develop and construct fifteen Combined Sewer Overflow Control Measures as part of a Long-Term Control Plan. The proposed modification makes changes to three of the Control Measures in the Long Term Control Plan.

The publication of this notice opens a period for public comment on the proposed Consent Decree. Comments should be addressed to the Assistant Attorney General, Environment and Natural Resources Division, and should refer to United States and the State of Indiana v. City of Fort Wayne, D.J. Ref. No. 90-5-1-1-07653. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the Consent Decree may be examined and downloaded at this Justice Department website: https://www.justice.gov/enrd/consent-decrees.

We will provide a paper copy of the Consent Decree upon written request and payment of reproduction costs. Please mail your request and payment to: Consent Decree Library, U.S. DOJ—ENRD, P.O. Box 7611, Washington, DC 20044-7611.

Please enclose a check or money order for $4.25 (25 cents per page reproduction cost) payable to the United States Treasury.

Randall M. Stone,
Acting Assistant Section Chief, Environmental Enforcement Section, Environment and Natural Resources Division.

[FR Doc. 2018-23184 Filed 10-23-18; 8:45 am]

BILLING CODE 4410-15-P